DEPARTMENT OF HOMELAND SECURITY

Coast Guard

[Docket No. USCG-2017-0900]

Navigation Safety Advisory Council

AGENCY: U.S. Coast Guard, Department of Homeland Security.

ACTION: Notice of Federal Advisory Committee meeting.

SUMMARY: The Navigation Safety Advisory Council will meet to discuss matters relating to maritime collisions, rammings, and groundings; Inland Rules of the Road; International Rules of the Road; navigation regulations and equipment, routing measures, marine information, diving safety, and aids to navigation systems. These meetings will be open to the public.

DATES: The Navigation Safety Advisory Council will meet on Wednesday, November 1, 2017, from 8 a.m. to 5:30 p.m., and on Thursday, November 2, 2017, from 8 a.m. to 5:30 p.m. Please note these meetings may close early if the Council has completed its business.

ADDRESSES: The meeting will be held at the Holiday Inn Arlington at Ballston, 4610 Fairfax Drive, Arlington VA 22203. https://www.holidayinn.com/hotels/us/en/arlington/wasfx/hoteldetail/directions.

For information on facilities or services for individuals with disabilities or to request special assistance at the meeting, contact Mr. Detweiler as soon as possible using the contact information in the FOR FURTHER INFORMATION CONTACT section of this notice.

Instructions: You are free to submit comments at any time, including orally at the meetings, but if you want Council members to review your comment before the meetings, please submit your comments no later than October 23, 2017. We are particularly interested in comments on the issues in the “Agenda” section below. You must include “Department of Homeland Security” and the docket number USCG-2017-0900. Written comments may also be submitted using the Federal eRulemaking Portal at http://www.regulations.gov. If you encounter technical difficulties with comments submission, contact the individual listed in the FOR FURTHER INFORMATION CONTACT section below. Comments received will be posted without alteration at http://www.regulations.gov, including any personal information provided. You may review the Privacy and Security Notice for the Federal Docket Management System at https://www.regulations.gov/privacyNotice.

Docket Search: For access to the docket or to read documents or comments related to this notice, go to http://www.regulations.gov, insert USCG-2017-0900 in the Search box, press enter, and then click on the item you wish to view.

FOR FURTHER INFORMATION CONTACT: If you have questions about these meetings, please contact Mr. George Detweiler, the Navigation Safety Advisory Council Alternate Designated Federal Officer, Commandant (CG-NAV-2), U.S. Coast Guard, 2703 Martin Luther King Jr. Avenue SE., Stop 7418, Washington, DC 20593, telephone 202-372-1566 or email George.H.Detweiler@uscg.mil.

SUPPLEMENTARY INFORMATION: Notice of this meeting is given pursuant to the Federal Advisory Committee Act, Title 5 United States Code, Appendix.

The Navigation Safety Advisory Council is an advisory committee authorized under Title 33 United States Code, Section 2073 and chartered under the provisions of the Federal Advisory Committee Act, Title 5, United States Code, Appendix. The Navigation Safety Advisory Council provides advice and recommendations to the Secretary, through the Commandant of the U.S. Coast Guard, on matters relating to maritime collisions, rammings, and groundings; Inland Rules of the Road; International Rules of the Road; navigation regulations and equipment, routing measures, marine information, diving safety, and aids to navigation systems.

Agenda

Wednesday, November 1, 2017

The Navigation Safety Advisory Council members will receive presentations on the following topics from agency representatives who performed the studies:

(1) The Vessel Traffic Service Study conducted by the National Transportation Safety Board;

(2) The Atlantic and Gulf Coast Seacoast Waterways and Analysis Management System Study being conducted by the Coast Guard; and

(3) Use of Automatic Identification System-Aids and Navigation in Pre-Storm Preparations and Post Storm Recovery.

Following the above presentations, the Designated Federal Officer will form subcommittees to continue discussions on the following task statements:

(1) Navigation Safety Advisory Council Task 16-01 Review the navigation safety consequences of ships using Ultra Low Sulphur Fuel Oil and recommend measures to mitigate those consequences;

(2) Navigation Safety Advisory Council Task 16-02 Develop criteria for reporting “near miss” incidents; and

(3) Navigation Safety Advisory Council Task 17-001 Input to Support Regulatory Reform of Coast Guard Regulations under Executive Orders 13771 and 13783.

The Designated Federal Officer will form subcommittees to discuss and provide recommendations on the following new task statement, as appropriate:

(1) Navigation Safety Advisory Council Task 17-002 Carriage requirement for a bell, dayshapes and a hard copy of the Inland Navigation Rules.

Public comments or questions will be taken during the meeting as the Council discusses each issue and prior to the Council formulating recommendations on each issue. There will also be a public comment period at the end of the meeting.

Thursday, November 2, 2017

(1) Subcommittee discussions continued from Wednesday, November 1 2017;

(2) Subcommittee reports presented to the Council; and

(3) New Business.

a. Summary of Navigation Safety Advisory Council action items;

b. Schedule next meeting date—Spring, 2018; and

c. Council discussions and acceptance of new tasks.

A copy of all meeting documentation will be available at http://homeport.uscg.mil/navsac no later than October 25, 2017.

A public comment period will be held after the discussion of new tasks. Speakers are requested to limit their comments to 10 minutes each. Public comments or questions will be taken at the discretion of the Designated Federal Officer during the discussion and recommendations, and new business portion of the meeting. Please contact Mr. Detweiler listed in the FOR FURTHER INFORMATION CONTACT section, to register as a speaker.

Dated: October 10, 2017.
Michael David Emerson,
Director, Marine Transportation Systems.

[FR Doc. 2017-22291 Filed 10-13-17; 8:45 am]

BILLING CODE 9110-04-P